ENVIRONMENTAL PROTECTION AGENCY

40 CFR Part 52

[EPA-R07-OAR-2024-0286; FRL-12046-03-R7]

Air Plan Partial Approval and Partial Disapproval; Missouri; Regional Haze; Extension of Comment Period

AGENCY: Environmental Protection Agency (EPA).

ACTION: Proposed rule; extension of comment period.

SUMMARY: The Environmental Protection Agency (EPA) is extending the comment period for a proposed rule that published July 3, 2024. The current comment period for the proposed rule was set to end on August 2, 2024. In response to requests from commenters, the EPA is extending the comment period for the proposed action to September 3, 2024.

DATES: The comment period for the proposed rule published on July 3, 2024, at 89 FR 55140 is extended. Comments must be received on or before September 3, 2024.

ADDRESSES: You may send comments, identified by Docket ID No. EPA-R07-OAR-2024-0286 to https://www.regulations.gov. Follow the online instructions for submitting comments.

Instructions: All submissions received must include the Docket ID No. for this rulemaking. Comments received will be posted without change to www.regulations.gov, including any personal information provided. For detailed instructions on sending comments and additional information on the rulemaking process, see the “I. Written Comments” heading of the SUPPLEMENTARY INFORMATION section of the associated notice of proposed rulemaking (89 FR 55140, July 3, 2024).

FOR FURTHER INFORMATION CONTACT: Ashley Keas, Environmental Protection Agency, Region 7 Office, Air and Radiation Division, 11201 Renner Boulevard, Lenexa, Kansas 66219; telephone number: (913) 551-7629; email address: keas.ashley@epa.gov.

SUPPLEMENTARY INFORMATION: On July 3, 2024, the EPA published the proposed rule “Air Plan Partial Approval and Partial Disapproval; Missouri; Regional Haze” in the Federal Register (89 FR 55140). The original deadline to submit comments was August 2, 2024. This action extends the comment period in response to requests from commenters. Written comments must now be received by September 3, 2024.

Dated: July 16, 2024.
Meghan A. McCollister,
Regional Administrator, Region 7.

[FR Doc. 2024-16118 Filed 7-22-24; 8:45 am]

BILLING CODE 6560-50-P